DEPARTMENT OF DEFENSE

Department of the Army, Corps of Engineers

Notice of Availability of the Draft Integrated Disposition Report and Environmental Assessment for the Upper St. Anthony Falls Lock and Dam, Hennepin County, Minnesota

AGENCY: U.S. Army Corps of Engineers, DoD.

ACTION: Notice of availability; request for comments.

SUMMARY: The St. Paul District, Army Corps of Engineers (Corps) is publishing this notice to announce that the draft Integrated Disposition Report and Environmental Assessment (DR/EA) for the Upper St. Anthony Falls Lock and Dam (USAF) is available for public review and comment in accordance with the National Environmental Policy Act (NEPA). The Corps provides all interested persons an opportunity to view and/or print the EA via the internet through the St. Paul District's Home Page (https://www.mvp.usace.army.mil/).

DATES: To ensure consideration, written comments must be received or postmarked within 60 days from the date of this notice. Any comments received after the closing date may not be considered in final decisions for the Corps' action.

ADDRESSES: Comments on the DR/EA may be submitted by one of the following methods:

Email should be sent to: MplsLocksDisposition@usace.army.mil.

Mail/Courier—Written comments should be sent to: District Engineer,U.S. Army Corps of Engineers St. Paul District, ATTN: Regional Planning and Environment Division North, 180 Fifth Street East, Suite 700, St. Paul, Minnesota 55101-1678.

If submitting comments by email, the following should be included in the subject line or first line of the message “USAF Disposition Study DR/EA Comments”. Comments should be specific and pertain only to the issues relating to the action and the EA. The Corps will include all comments in the project record.

Before including your address, phone number, email address, or other personal identifying information in your comment, you should be aware that your entire comment—including your personal identifying information—may be publicly available. While you can ask us in your comment to withhold your personal identifying information from public review, the Corps cannot guarantee that we will be able to do so. Such information is not required for you to submit comments on the study.

All submissions from organizations or businesses and from individuals identifying themselves as representatives or officials of organizations or businesses will be available for public review to the extent consistent with applicable law.

FOR FURTHER INFORMATION CONTACT: General questions about the study may be directed to Nan Bischoff, Project Manager, U.S. Army Corps of Engineers, St. Paul District, 180 Fifth Street East, Suite 700, St. Paul, MN 55101-1678; telephone (651) 290-5426; email: Nanette.m.bischoff@usace.army.mil.

SUPPLEMENTARY INFORMATION: The Corps operates USAF Lock and Dam, located on the Mississippi River in Minneapolis, Minnesota. Section 2010 of Water Resources Reform and Redevelopment Act of 2014, Public Law 113-121, directed the Corps to close the lock to navigation operations but to continue to carry out emergency lock operations necessary to mitigate flood damages. Navigation at the lock ceased on June 9th, 2015. Prior to the closure of USAF, the lock operated as part of a system to support navigation on the upper reaches of the Mississippi River 9-foot navigation channel.

Section 216 of the Flood Control Act of 1970 authorizes the Secretary of the Army to review operations of completed projects, when found advisable due to changed physical, economic, or environmental conditions. Disposition studies are a specific type of Section 216 study with the intent to determine whether a water resources development project operated and maintained by the Corps of Engineers should be de-authorized and the associated real property and Government-owned improvements disposed of.

The USAF Disposition Study analyzes three primary alternatives at the USAF site: (1) No action; (2) complete de-authorization by Congress of the Federal missions at the site and disposal of the properties according to Federal law; and (3) partial de-authorization and disposal. The partial disposition alternative will maintain the emergency flood mitigation capability of the structure. If the Corps of Engineers determines that Federal interest no longer exists, it must consider, and may recommend, disposal of the project or separable elements of the project under existing authorities.

The Disposition Study ends when the final report is approved by the Corps of Engineers' Headquarters Office. Deauthorization would require Congressional Approval.

Results of the study are summarized in the draft DR/EA, which includes an analysis of potential environmental effects and concludes the action would not constitute a major federal action significantly affecting the quality of the human environment. In accordance with the National Environmental Policy Act of 1969 (NEPA), the Corps is making the draft DR/EA available for public comments and will be holding one or more virtual public meetings summarizing the report prior to the comment deadline via Facebook Live or similar web-based platform. Additional details on these meeting(s) will be posted at least two weeks beforehand on the Saint Paul District's website: https://www.mvp.usace.army.mil/.

Authority: The District publishes this notice congruent with the National Environmental Policy Act of 1969, as amended (NEPA; 42 U.S.C. 4321 et seq.), and its implementing regulations (40 CFR parts 1500-1508).

Edward E. Belk, Jr.,
Director of Programs.

[FR Doc. 2020-27964 Filed 12-17-20; 8:45 am]

BILLING CODE 3720-58-P